Memorandum of March 16, 2022

Delegation of Authority Under Section 552(c)(2) of the Foreign Assistance Act of 1961

Memorandum for the Secretary of State

By the authority vested in me as President by the Constitution and the laws of the United States of America, including section 621 of the Foreign Assistance Act of 1961 (FAA), I hereby delegate to the Secretary of State the authority under section 552(c)(2) of the FAA to direct the drawdown of up to $10 million in commodities and services from the inventory and resources of any agency of the United States Government to provide assistance to Ukraine and to make the determinations required under such section to direct such a drawdown.

You are authorized and directed to publish this memorandum in the Federal Register.

THE WHITE HOUSE,

Washington, March 16, 2022

[FR Doc. 2022-06277

Filed 3-22-22; 8:45 am]

Billing code 4710-10-P